DEPARTMENT OF THE INTERIOR

Bureau of Land Management

[LLNML03010 L51100000.GN0000 LVEMG11CG230 XXXL5017AR]

Notice of Availability of the Copper Flat Copper Mine Draft Environmental Impact Statement, Sierra County, NM

AGENCY: Bureau of Land Management, Interior.

ACTION: Notice of availability.

SUMMARY: In accordance with the National Environmental Policy Act of 1969, as amended, and the Federal Land Policy and Management Act of 1976, as amended, the Bureau of Land Management (BLM) has prepared a Draft Environmental Impact Statement (Draft EIS) for the Copper Flat Copper Mine and by this notice is announcing the opening of the comment period.

DATES: To ensure comments will be considered, the BLM must receive written comments on the Copper Flat Copper Mine Draft EIS within 45 days following the date the Environmental Protection Agency publishes its Notice of Availability in the Federal Register. The BLM will announce future meetings or hearings and any other public involvement activities at least 15 days in advance through public notices, media releases, and/or mailings.

ADDRESSES: You may submit comments related to the Copper Flat Copper Mine by any of the following methods:

• Email: BLM_NM_LCDO_Comments@blm.gov.

• Fax: (575) 525-4412.

• Mail: BLM Las Cruces District Office, Attention: Doug Haywood, 1800 Marquess Street, Las Cruces, NM 88005.

Copies of the Copper Flat Copper Mine Draft EIS are available at the Las Cruces District Office at the above address and public libraries in Hillsboro, New Mexico, at 158 Elenora Street, and Truth or Consequences, New Mexico, at 325 Library Lane. The Draft EIS and supporting documents are also available electronically on the Copper Flat Project (Project) Web site at: www.blm.gov/nm/copperflateis.

FOR FURTHER INFORMATION CONTACT: Doug Haywood, telephone (575) 525-4498; address 1800 Marquess Street, Las Cruces, NM 88005; email dhaywood@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Copper Flat Copper Mine is the proposed reestablishment of a poly-metallic mine and processing facility located near Hillsboro, New Mexico, that would produces copper, gold, silver, and molybdenum. The Proposed Action is to approve the Project as proposed, consisting of an open pit mine, flotation mill, tailings impoundment, waste rock disposal areas, a low-grade ore stockpile, and ancillary facilities. In most respects, the facilities, disturbance, and operations would be similar to the former operation. The Project is owned and operated by the New Mexico Copper Corporation (Copper Corporation), a wholly owned subsidiary of THEMAC Resources Group Limited. The Project is comprised of 963 acres (841 acres of proposed disturbance and 122 acres undisturbed) of private land and 1,227 acres (745 acres of proposed disturbance and 482 acres undisturbed) of public land, for a total of 2,190 acres. The proposed mining plan of operations was submitted by the Copper Corporation to the BLM in June 2011and is based upon the plan of development that Quintana Mineral Corporation used in the previous operation of Copper Flat mining activities in 1982. The Project includes upgrades and modifications based on current engineering designs and regulations and was intentionally developed to re-use the existing foundations, production wells, and water pipeline that were employed by the previous Quintana operation. Four Alternatives are analyzed: No Action, Proposed Action, Alternative A, and Alternative B. The Preferred Alternative (Alternative B) is different than the Proposed Action in that ore would be processed at a faster rate, therefore shortening the mine life of the Project.

Under the Proposed Action, the BLM would approve the Copper Corporation's plan to process 17,500 tons per day of copper ore over a mine operations period of 16 years, resulting in 100 million tons of ore processed over the mine life. Alternative A would process 25,000 tons per day of copper ore over a mine operations period of 11 years, resulting in 103 million tons of ore processed over the mine life. Alternative B would process 30,000 tons per day of copper ore over a mine operations period of 12 years, resulting in 125 million tons of ore processed over the mine life.

Mitigation of impacts are proposed in the mining plan of operations for reducing water quality effects; reducing the effects of the spread of nonnative vegetation and noxious weeds; providing protection to special-status bird species; pre-development surveying for bat species; developing measures to avoid, minimize, or mitigate the adverse effects to historic properties; reducing adverse impacts on historic properties; informational signing for mining as a resource to reduce visual impacts; fencing to prevent injury or loss of livestock from mining operations; reducing “boom and bust” socioeconomic impacts; reducing public concerns about potential company bankruptcy; and reducing effects to environmental justice populations.

The scoping period began on January 9, 2012, and ended on March 9, 2012. Scoping meetings were held in Hillsboro and Truth or Consequences, New Mexico, on February 22 and 23, 2012, respectively. During the open house portion of the meeting, the public had opportunities to speak with representatives of the BLM, the State of New Mexico, and the Copper Corporation. Several display stations were featured with exhibits, maps, fact sheets, and other informational materials. The key issues identified from public scoping focused on water, biological resources, traffic, and social and economic concerns.

The BLM has prepared the Draft EIS in conjunction with its four Cooperating Agencies: The New Mexico Department of Game and Fish, New Mexico Environment Department, New Mexico Energy, Minerals and Natural Resources Department, and New Mexico Office of the State Engineer.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Aden L. Seidlitz,
Acting State Director.

[FR Doc. 2015-30293 Filed 11-27-15; 8:45 am]

BILLING CODE 4310-FB-P